FEDERAL MARITIME COMMISSION

Sunshine Act Meeting

AGENCY HOLDING THE MEETING: Federal Maritime Commission.

TIME AND DATE: February 26, 2014; 10:00 a.m.

PLACE: 800 N. Capitol Street NW., First Floor Hearing Room, Washington, DC

STATUS: The first portion of the meeting was held in Open Session; the second in Closed Session. The agenda is now being revised pursuant to 46 CFR 502.83 because the item considered in closed session, “Staff Follow-up Briefing Concerning FMC Global Regulatory Summit”, included a broader discussion of the Commission's agreement review process. The Federal Maritime Commission has voted unanimously to revise the agenda.

Matters Considered

Open Session

1. Update on the China Value Added Tax Affecting Ocean Export Freight Shipments

2. FMC Information Resources Management Strategic Plan

3. Staff Recommendation Concerning Third Party Subpoena

Closed Session

1. Staff Follow-up Briefing Concerning FMC Global Regulatory Summit Including FMC Agreement Review Process

CONTACT PERSON FOR MORE INFORMATION: Karen V. Gregory, Secretary (202) 523 5725

Karen V. Gregory,
Secretary.

[FR Doc. 2014-08479 Filed 4-10-14; 4:15 pm]

BILLING CODE 6730-01-P